DEPARTMENT OF ENERGY

Federal Energy Regulatory Commission

Combined Notice of Filings #2

Take notice that the Commission received the following electric corporate filings:

Docket Numbers: EC13-128-000.

Applicants: Silver Merger Sub, Inc., Nevada Power Company, Sierra Pacific Power Company, NV Energy, Inc.

Description: Joint Application for Authorization under Section 203 of the Federal Power Act of Silver Merger Sub, Inc., et. al.

Filed Date: 7/12/13.

Accession Number: 20130712-5087.

Comments Due: 5 p.m. e.t. 9/10/13.

Take notice that the Commission received the following electric rate filings:

Docket Numbers: ER11-3212-001; ER11-3213-001; ER11-3214-001; ER13-1855-001.

Applicants: XO Energy NY, LP, XO Energy MA, LP, XO Energy MW, LP, XO Energy SW., LP.

Description: Notice of Non-Material Change in Status of XO Energy Companies under ER11-3213-000, et. al.

Filed Date: 7/12/13.

Accession Number: 20130712-5122.

Comments Due: 5 p.m. e.t. 8/2/13.

Docket Numbers: ER13-1673-000.

Applicants: Entergy Arkansas, Inc.

Description: Entergy Arkansas, Inc. submits tariff filing per 35.19a(b): Compliance Refund Report to be effective N/A.

Filed Date: 7/12/13.

Accession Number: 20130712-5074.

Comments Due: 5 p.m. e.t. 8/2/13.

Docket Numbers: ER13-1674-000.

Applicants: Entergy Gulf States Louisiana, L.L.C.

Description: Entergy Gulf States Louisiana, L.L.C. submits tariff filing per 35.19a(b): Compliance Refund Report to be effective N/A.

Filed Date: 7/12/13.

Accession Number: 20130712-5091.

Comments Due: 5 p.m. e.t. 8/2/13.

Docket Numbers: ER13-1675-000.

Applicants: Entergy Louisiana, LLC.

Description: Entergy Louisiana, LLC submits tariff filing per 35.19a(b): Compliance Refund Report to be effective N/A.

Filed Date: 7/12/13.

Accession Number: 20130712-5094.

Comments Due: 5 p.m. e.t. 8/2/13.

Docket Numbers: ER13-1676-000.

Applicants: Entergy Mississippi, Inc.

Description: Entergy Mississippi, Inc. submits tariff filing per 35.19a(b): Compliance Refund Report to be effective N/A.

Filed Date: 7/12/13.

Accession Number: 20130712-5096.

Comments Due: 5 p.m. e.t. 8/2/13.

Docket Numbers: ER13-1677-000.

Applicants: Entergy New Orleans, Inc.

Description: Entergy New Orleans, Inc. submits tariff filing per 35.19a(b): Compliance Refund Report to be effective N/A.

Filed Date: 7/12/13.

Accession Number: 20130712-5097.

Comments Due: 5 p.m. e.t. 8/2/13.

Docket Numbers: ER13-1678-000.

Applicants: Entergy Texas, Inc.

Description: Entergy Texas, Inc. submits tariff filing per 35.19a(b): Compliance Refund Report to be effective N/A.

Filed Date: 7/12/13.

Accession Number: 20130712-5098.

Comments Due: 5 p.m. e.t. 8/2/13.

Docket Numbers: ER13-1964-000.

Applicants: PJM Interconnection, L.L.C.

Description: PJM Interconnection, L.L.C. submits tariff filing per 35.13(a)(2)(iii: Queue Position W1-108; Original Service Agreement No. 3590 to be effective 6/12/2013.

Filed Date: 7/12/13.

Accession Number: 20130712-5124.

Comments Due: 5 p.m. e.t. 8/2/13.

Docket Numbers: ER13-1965-000.

Applicants: NRG Wholesale Generation LP.

Description: NRG Wholesale Generation LP submits tariff filing per 35: Notice of Succession—MBR to be effective 7/15/2013.

Filed Date: 7/12/13.

Accession Number: 20130712-5129.

Comments Due: 5 p.m. e.t. 8/2/13.

Docket Numbers: ER13-1966-000.

Applicants: NRG Wholesale Generation LP.

Description: NRG Wholesale Generation LP submits tariff filing per 35: Notice of Succession—3 to be effective 7/15/2013.

Filed Date: 7/12/13.

Accession Number: 20130712-5130.

Comments Due: 5 p.m. e.t. 8/2/13.

Docket Numbers: ER13-1967-000.

Applicants: NRG Wholesale Generation LP.

Description: NRG Wholesale Generation LP submits tariff filing per 35: Notice of Succession—5 to be effective 7/15/2013.

Filed Date: 7/12/13.

Accession Number: 20130712-5131.

Comments Due: 5 p.m. e.t. 8/2/13.

Docket Numbers: ER13-1968-000.

Applicants: NRG Wholesale Generation LP.

Description: NRG Wholesale Generation LP submits tariff filing per 35: Notice of Succession—7 to be effective 7/15/2013.

Filed Date: 7/12/13.

Accession Number: 20130712-5132.

Comments Due: 5 p.m. e.t. 8/2/13.

Docket Numbers: ER13-1969-000.

Applicants: NRG Wholesale Generation LP.

Description: NRG Wholesale Generation LP submits tariff filing per 35: Notice of Succession—8 to be effective 7/15/2013.

Filed Date: 7/12/13.

Accession Number: 20130712-5134.

Comments Due: 5 p.m. e.t. 8/2/13.

Take notice that the Commission received the following electric securities filings:

Docket Numbers: ES11-29-002.

Applicants: Entergy Texas, Inc.

Description: Supplement to April 30, 2013 Application of Entergy Texas, Inc., for extension of FPA Section 204 authorization.

Filed Date: 7/12/13.

Accession Number: 20130712-5075.

Comments Due: 5 p.m. e.t. 7/22/13.

Docket Numbers: ES13-35-000.

Applicants: AEP West Virginia Transmission Company,

Description: Application under Section 204 of the Federal Power Act for authorization to issue securities of AEP West Virginia Transmission Company, Inc.

Filed Date: 7/12/13.

Accession Number: 20130712-5067.

Comments Due: 5 p.m. e.t. 8/2/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2013.
Nathaniel J. Davis, Sr.,
Deputy Secretary.

[FR Doc. 2013-17334 Filed 7-18-13; 8:45 am]

BILLING CODE 6717-01-P